DEPARTMENT OF ENERGY

Federal Energy Regulatory Commission

Combined Notice of Filings #1

Take notice that the Commission received the following electric rate filings:

Docket Numbers: ER12-1645-001.

Applicants: ITC Midwest LLC.

Description: Withdrawal of Agreement to be effective 7/1/2012.

Filed Date: 6/20/12.

Accession Number: 20120620-5042.

Comments Due: 5 p.m. ET 7/11/12.

Docket Numbers: ER12-2071-000.

Applicants: Verde Energy USA New York, LLC.

Description: MBR Application to be effective 8/20/2012.

Filed Date: 6/20/12.

Accession Number: 20120620-5033.

Comments Due: 5 p.m. ET 7/11/12.

Docket Numbers: ER12-2072-000.

Applicants: Michigan Electric Transmission Company, LLC.

Description: Filing of Amended and Restated Interconnection Agreement to be effective 6/21/2012.

Filed Date: 6/20/12.

Accession Number: 20120620-5039.

Comments Due: 5 p.m. ET 7/11/12.

.

Docket Numbers: ER12-2073-000.

Applicants: Public Service Company of Colorado.

Description: 2012-6-20_321-PSCo_HLYCRS_CAA to be effective 4/11/2012.

Filed Date: 6/20/12.

Accession Number: 20120620-5086.

Comments Due: 5 p.m. ET 7/11/12.

Docket Numbers: ER12-2074-000.

Applicants: The Connecticut Light and Power Company.

Description: United Illuminating 2012 O&M Agreement to be effective 12/31/9998.

Filed Date: 6/20/12.

Accession Number: 20120620-5093.

Comments Due: 5 p.m. ET 7/11/12.

Docket Numbers: ER12-2075-000.

Applicants: Atlantic Renewable Projects II LLC.

Description: Tariff Revisions to be effective 6/30/2012.

Filed Date: 6/20/12.

Accession Number: 20120620-5115.

Comments Due: 5 p.m. ET 7/11/12.

Docket Numbers: ER12-2076-000.

Applicants: Barton Windpower LLC.

Description: Tariff Revisions to be effective 6/30/2012.

Filed Date: 6/20/12.

Accession Number: 20120620-5116.

Comments Due: 5 p.m. ET 7/11/12.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2012.
Nathaniel J. Davis, Sr.,
Deputy Secretary.

[FR Doc. 2012-15945 Filed 6-28-12; 8:45 am]

BILLING CODE 6717-01-P